RAILROAD RETIREMENT BOARD

Agency Forms Submitted for OMB Review

Summary: In accordance with the Paperwork Reduction Act of 1995 (44 U.S.C. Chapter 35), the Railroad Retirement Board (RRB) has submitted the following proposal(s) for the collection of information to the Office of Management and Budget for review and approval.

Summary of Proposal(s)

(1) Collection title: Pension Plan Reports.

(2) Form(s) submitted: G-88p, G-88r, and G-88r.1.

(3) OMB Number: 3220-0089.

(4) Expiration date of current OMB clearance: 2/28/2003.

(5) Type of request: Revision of a currently approved collection.

(6) Respondents: Business or other-for-profit.

(7) Estimated annual number of respondents: 500.

(8) Total annual responses: 1,515.

(9) Total annual reporting hours: 203.

(10) Collection description: The Railroad Retirement Act provides for payment of a supplemental annuity to a qualified railroad retirement annuitant. The collection obtains information from the annuitant's employer to determine (a) the existence of a railroad employer's pension plans and whether such plans, if they exist, require a reduction to supplemental annuities paid to the employer's former employees and (b) the amount of supplemental annuities due railroad employees.

Additional Information or Comments: Copies of the forms and supporting documents can be obtained from Chuck Mierzwa, the agency clearance officer (312) 751-3363.

Comments regarding the information collection should be addressed to Ronald J. Hodapp, Railroad Retirement Board, 844 North Rush Street, Chicago, Illinois, 60611-2092 and to the OMB Desk Officer for the RRB, at the Office of Management and Budget, Room 10230, New Executive Office Building, Washington, DC 20503.

Chuck Mierzwa,
Clearance Officer.

[FR Doc. 03-132 Filed 1-3-03; 8:45 am]

BILLING CODE 7905-01-M